DEPARTMENT OF COMMERCE

National Oceanic and Atmospheric Administration

[RTID: 0648-XE607]

Southeast Regional Office, Amendment 59 to the Fishery Management Plan for the Snapper-Grouper Fishery of the South Atlantic; Public Hearings

AGENCY: National Marine Fisheries Service (NMFS), National Oceanic and Atmospheric Administration (NOAA), Commerce.

ACTION: Notice of public hearings.

SUMMARY: The NMFS Southeast Regional Office will hold a series of public hearings on Amendment 59 to the Fishery Management Plan for the Snapper-Grouper Fishery of the South Atlantic (Amendment 59). NMFS will review Amendment 59 and the proposed measures for management of red snapper and snapper-grouper species in South Atlantic Federal waters.

DATES: The public hearing meetings will be held on February 5, 2025, February 6, 2025, February 24, 2025, February 25, 2025, and March 5, 2025.

See SUPPLEMENTARY INFORMATION for additional details.

ADDRESSES: Meeting locations:

Date and time | Location
February 5, 2025; 4:00-8:00 p.m | Hilton Garden Inn, Charleston, Airport 5265 International Boulevard, North Charleston, SC 29418, 843-308-9330.
February 6, 2025; 4:00-8:00 p.m | The Crystal Coast Civic Center, 3505 Arendell Street, Morehead City, NC 28557, 252-247-3883.
February 24, 2025; 4:00-8:00 p.m | Crowne Plaza Jacksonville Airport, 14670 Duval Rd., Jacksonville, FL 32218, 904-741-4404.
February 25, 2025; 4:00-8:00 p.m | Hilton Cocoa Beach, 1550 N Atlantic Avenue, Cocoa Beach, FL 32931, 321-613-9023.
March 5, 2025; 4:00 p.m. during the scheduled South Atlantic Fishery Management Council meeting | Villa By the Sea, 1175 Beachview Drive N, Jekyll Island, GA 31527, 912-635-2521.

FOR FURTHER INFORMATION CONTACT: Karla Gore, Southeast Regional Office, telephone: (727) 824-5305, karla.gore@noaa.gov.

SUPPLEMENTARY INFORMATION: As part of the development of Amendment 59, the NMFS Southeast Regional Office will host a series of public hearings. During these public hearings, NMFS will review Amendment 59 and the proposed options for management of red snapper and snapper-grouper species in South Atlantic Federal waters. The structure of the public hearings will allow for a presentation on the amendment and proposed rule at 4:30 p.m. and 6:00 p.m. on February 5, 6, 24, and 25, 2025. There will be separate breakout rooms for the public to ask questions, obtain more information on the amendment and proposed rule, and formally submit public comments to NMFS.

The March 5, 2025, public hearing will be held in conjunction with the scheduled March meeting of the South Atlantic Fishery Management Council (Council). A presentation on the measures proposed in Amendment 59 will be provided by NMFS at 1:00 p.m. and comments on Amendment 59 will be accepted during the Council's scheduled public comment period starting at 4:00 p.m.

A detailed public hearing agenda and Amendment 59 background documents will be made available on the NMFS Amendment 59 website prior to the public hearing. The website for information about Amendment 59 is located at: https://www.fisheries.noaa.gov/action/amendment-59-fishery-management-plan-snapper-grouper-fishery-south-atlantic-region/.

Special Accommodations

These public hearings are physically accessible to people with disabilities. Requests for sign language interpretation or other auxiliary aid should be directed to Karla Gore, (727) 824-5305, karla.gore@noaa.gov at least 5 days prior to the meeting date.

Note: The times and sequence specified in the agenda are subject to change.

Authority: 16 U.S.C. 1801 et seq.

Dated: January 10, 2025.
Karen H. Abrams,
Acting Director, Office of Sustainable Fisheries, National Marine Fisheries Service.

[FR Doc. 2025-00853 Filed 1-15-25; 8:45 am]

BILLING CODE 3510-22-P